DEPARTMENT OF JUSTICE

Antitrust Division

Notice Pursuant to the National Cooperative Research and Production Act of 1993—Versatile Onboard Traffic Embedded Roaming Sensors (Formerly Joint Venture To Perform Project Entitled Versatile Onboard Traffic Embedded Roaming Sensors)

Notice is hereby given that, on April 27, 2011, pursuant to Section 6(a) of the National Cooperative Research and Production Act of 1993, 15 U.S.C. 4301 et seq. (“the Act”), Versatile Onboard Traffic Embedded Roaming Sensors (formerly Joint Venture to Perform Project Entitled Versatile Onboard Traffic Embedded Roaming Sensors)(“VOTERS”) has filed written notifications simultaneously with the Attorney General and the Federal Trade Commission disclosing changes in its membership. The notifications were filed for the purpose of extending the Act's provisions limiting the recovery of antitrust plaintiffs to actual damages under specified circumstances. Specifically, Earth Science Systems, LLC, WheatRidge, CO, has been added as a party to this venture.

No other changes have been made in either the membership or planned activity of the group research project. Membership in this group research project remains open, and VOTERS intends to file additional written notifications disclosing all changes in membership.

On February 10, 2009, VOTERS filed its original notification pursuant to Section 6(a) of the Act. The Department of Justice published a notice in the Federal Register pursuant to Section 6(b) of the Act on March 13, 2009 (74 FR 10967).

The last notification was filed with the Department on April 5, 2010. A notice was published in the Federal Register pursuant to Section 6(b) of the Act on May 7, 2010 (75 FR 25294).

Patricia A. Brink,
Director of Civil Enforcement, Antitrust Division.

[FR Doc. 2011-13307 Filed 5-27-11; 8:45 am]

BILLING CODE 4410-11-M